DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 7, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Institute of Food and Agriculture

Title: NIFA Proposal Review Process.

OMB Control Number: 0524-0041.

Summary of Collection: The United States Department of Agriculture (USDA), National Institute of Food and Agriculture (NIFA), administers competitive, peer-reviewed research, education and extension programs. The reviews are undertaken to ensure that projects supported by NIFA are of a high-quality and are consistent with the goals and requirements of the funding program. These programs are authorized pursuant to the authorities contained in the National Agricultural Research, Extension, and Teaching Policy Act of 1977, as amended (7 U.S.C. 3101), the Smith-Lever Act, and other legislative authorities.

Need and Use of the Information: The collected information from the evaluations is used to support NIFA grant programs. NIFA uses the results of each proposal to determine whether a proposal should be declined or recommended for award. In order to obtain this information, an electronic questionnaire is used to collect information about potential panel and ad-hoc reviewers. To ensure the highest quality of funded research, NIFA must collect reviews in a timely manner and on an individual application basis. If this information was not collected and documented, the decision to fund a particular application could be questioned.

Description of Respondents: Individuals or households; State, Local or Tribal Government.

Number of Respondents: 52,000.

Frequency of Responses: Reporting: Weekly; Annually.

Total Burden Hours: 66,160.

Ruth Brown,
Departmental Information Collection Clearance Officer.

[FR Doc. 2022-16974 Filed 8-5-22; 8:45 am]

BILLING CODE 3410-09-P